DEPARTMENT OF ENERGY

Federal Energy Regulatory Commission

Combined Notice of Filings

September 30, 2008.

Take notice that the Commission has received the following Natural Gas Pipeline Rate and Refund Report filings:

Docket Numbers: RP99-176-168.

Applicants: Natural Gas Pipeline Company of America.

Description: Natural Gas Pipeline Company of America, LLC submits Amendment 3 to the Transportation Rate Schedule FTS Agreement with a negotiated rate exhibit with Nicor Gas Co.

Filed Date: 09/26/2008.

Accession Number: 20080926-0173.

Comment Date: 5 p.m. Eastern Time on Wednesday, October 8, 2008.

Docket Numbers: RP99-301-214.

Applicants: ANR Pipeline Company.

Description: ANR Pipeline Company submits 1 Rate Schedule FTS-1 negotiated rate service agreement between with Merrill Lynch Commodities, Inc, to be effective 11/1/08.

Filed Date: 09/24/2008.

Accession Number: 20080926-0079.

Comment Date: 5 p.m. Eastern Time on Monday, October 6, 2008.

Docket Numbers: RP99-301-215.

Applicants: ANR Pipeline Company.

Description: ANR Pipeline Company submits four Rate Schedule FTS-1 negotiated rate service agreements with Chevron USA Inc, to be effective 11/1/08.

Filed Date: 09/24/2008.

Accession Number: 20080926-0078.

Comment Date: 5 p.m. Eastern Time on Monday, October 6, 2008.

Docket Numbers: RP99-301-216.

Applicants: ANR Pipeline Company.

Description: ANR Pipeline Co submits an amendment to Rate Schedule NNS negotiated rate agreement with Wisconsin Electric Power Co, to be effective 11/1/08.

Filed Date: 09/24/2008.

Accession Number: 20080926-0077.

Comment Date: 5 p.m. Eastern Time on Monday, October 6, 2008.

Docket Numbers: RP99-301-217.

Applicants: ANR Pipeline Company.

Description: ANR Pipeline Company submits an amendment to Rate Schedule FTS-1 negotiated rate agreement with Wisconsin Public Service Corporation (Contract No. 12000), to be effective 11/1/08.

Filed Date: 09/24/2008.

Accession Number: 20080926-0076.

Comment Date: 5 p.m. Eastern Time on Monday, October 6, 2008.

Docket Numbers: RP99-301-218.

Applicants: ANR Pipeline Company.

Description: ANR Pipeline Co submits an amendment to Rate Schedule ETS negotiated rate agreement with Madison Gas & Electric Co (Contract No. 106454), to be effective 11/1/08.

Filed Date: 09/24/2008.

Accession Number: 20080926-0075.

Comment Date: 5 p.m. Eastern Time on Monday, October 6, 2008.

Docket Numbers: RP99-301-219.

Applicants: ANR Pipeline Company.

Description: ANR Pipeline Company submits 1 Rate Schedule FTS-1 negotiated rate service agreement with Southwest Energy, LP, to be effective 11/1/08.

Filed Date: 09/24/2008.

Accession Number: 20080926-0074.

Comment Date: 5 p.m. Eastern Time on Monday, October 6, 2008.

Docket Numbers: RP99-301-220.

Applicants: ANR Pipeline Company.

Description: ANR Pipeline Co submits Rate Schedule FTS-1 negotiated rate service agreements with Oneok Energy Services Co, LP, to be effective 11/1/08.

Filed Date: 09/24/2008.

Accession Number: 20080926-0073.

Comment Date: 5 p.m. Eastern Time on Monday, October 6, 2008.

Docket Numbers: RP99-301-221.

Applicants: ANR Pipeline Company.

Description: ANR Pipeline Co submits Rate Schedule FTS-1 negotiated rate service agreements with Nexen Marketing USA, Inc, to be effective 11/1/08.

Filed Date: 09/24/2008.

Accession Number: 20080926-0072.

Comment Date: 5 p.m. Eastern Time on Monday, October 6, 2008.

Docket Numbers: RP99-301-222.

Applicants: ANR Pipeline Company.

Description: ANR Pipeline Co submits Rate Schedule FTS-1 negotiated rate service agreements with CIMA Energy, Ltd, to be effective 11/1/08.

Filed Date: 09/24/2008.

Accession Number: 20080926-0071.

Comment Date: 5 p.m. Eastern Time on Monday, October 6, 2008.

Docket Numbers: RP99-301-223.

Applicants: ANR Pipeline Company.

Description: ANR Pipeline Co submits Rate Schedule FTS-1 negotiated rate service agreements with ConocoPhillips Co, to be effective 11/1/08.

Filed Date: 09/24/2008.

Accession Number: 20080926-0070.

Comment Date: 5 p.m. Eastern Time on Monday, October 6, 2008.

Docket Numbers: RP99-301-224.

Applicants: ANR Pipeline Company.

Description: ANR Pipeline Co submits Rate Schedule FTS-1 negotiated rate service agreements with Tenaska Marketing Ventures, to be effective 11/1/08.

Filed Date: 09/24/2008.

Accession Number: 20080926-0069.

Comment Date: 5 p.m. Eastern Time on Monday, October 6, 2008.

Docket Numbers: RP00-632-031.

Applicants: Dominion Transmission, Inc.

Description: Dominion Transmission, Inc submits Sub Third Revised Sheet 1120 to FERC Gas Tariff, Third Revised Volume 1.

Filed Date: 09/25/2008.

Accession Number: 20080926-0067.

Comment Date: 5 p.m. Eastern Time on Tuesday, October 7, 2008.

Docket Numbers: RP02-534-010.

Applicants: Guardian Pipeline, L.L.C.

Description: Guardian Pipeline, LLC submits Original Sheet 9A to FERC Gas Tariff, Original Volume 1, effective 10/24/08.

Filed Date: 09/24/2008.

Accession Number: 20080926-0080.

Comment Date: 5 p.m. Eastern Time on Monday, October 6, 2008.

Docket Numbers: RP05-422-029.

Applicants: El Paso Natural Gas Company.

Description: El Paso Natural Gas Co submits its supplemental Refund Report in accordance with the provisions of Section 154.201(e).

Filed Date: 08/28/2008.

Accession Number: 20080903-0049.

Comment Date: 5 p.m. Eastern Time on Friday, October 3, 2008.

Docket Numbers: RP05-422-030.

Applicants: El Paso Natural Gas Company.

Description: El Paso Natural Gas Company submits a statement for informational purposes in response to FERC's order issued on 9/5/08 re the rate case settlement pursuant to Article 11.2.

Filed Date: 09/22/2008.

Accession Number: 20080925-0046.

Comment Date: 5 p.m. Eastern Time on Monday, October 6, 2008.

Docket Numbers: RP08-392-002.

Applicants: Texas Gas Transmission, LLC.

Description: Texas Gas Transmission, LLC submits Substitute Original Sheet 100 et al to its FERC Gas Tariff, Third Revised Volume 1, and effective 9/15/08.

Filed Date: 09/26/2008.

Accession Number: 20080926-0174.

Comment Date: 5 p.m. Eastern Time on Wednesday, October 8, 2008.

Docket Numbers: RP08-630-000.

Applicants: Northern Natural Gas Company.

Description: Northern Natural Gas Co's petition for a limited waiver of tariff provisions.

Filed Date: 09/24/2008.

Accession Number: 20080925-0050.

Comment Date: 5 p.m. Eastern Time on Monday, October 6, 2008.

Docket Numbers: RP08-631-000.

Applicants: Transcontinental Gas Pipe Line Corp.

Description: Transcontinental Gas Pipe Line Corp submits Fifty-Fifth Revised Sheet 27 et al to FERC Gas Tariff, Third Revised Volume 1, to be effective 10/1/08.

Filed Date: 09/24/2008.

Accession Number: 20080925-0049.

Comment Date: 5 p.m. Eastern Time on Monday, October 6, 2008.

Docket Numbers: RP08-632-000.

Applicants: Gulf South Pipeline Company, LP.

Description: Gulf South Pipeline Co, LP submits Third Revised Sheet 1414 et al to FERC Gas Tariff, Sixth Revised Volume 1, to be effective 11/1/08.

Filed Date: 09/25/2008.

Accession Number: 20080926-0066.

Comment Date: 5 p.m. Eastern Time on Tuesday, October 7, 2008.

Docket Numbers: RP08-633-000.

Applicants: National Fuel Gas Supply Corporation.

Description: Petition of National Fuel Gas Supply Corp for waiver of tariff provisions under RP08-633.

Filed Date: 09/25/2008.

Accession Number: 20080926-0065.

Comment Date: 5 p.m. Eastern Time on Tuesday, October 7, 2008.

Docket Numbers: CP06-416-005.

Applicants: Northwest Pipeline GP.

Description: Northwest Pipeline GP submits First Revised Sheet 7, et al to FERC Gas Tariff, Fourth Revised Volume 1.

Filed Date: 09/25/2008.

Accession Number: 20080929-0067.

Comment Date: 5 p.m. Eastern Time on Tuesday, October 7, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-23507 Filed 10-3-08; 8:45 am]

BILLING CODE 6717-01-P